DEPARTMENT OF TRANSPORTATION

Federal Aviation Administration

Eleventh Meeting: RTCA Special Committee 227, Standards of Navigation Performance

AGENCY: Federal Aviation Administration (FAA), U.S. Department of Transportation (DOT).

ACTION: Meeting Notice of RTCA Special Committee 227, Standards of Navigation Performance.

SUMMARY: The FAA is issuing this notice to advise the public of the eleventh meeting of the RTCA Special Committee 227, Standards of Navigation Performance.

DATES: The meeting will be held September 15-19, 2014 from 9:00 a.m.-4:30 p.m.

ADDRESSES: The meeting will be held at RTCA 1150 18th Street NW., Suite 910, Washington, DC 20036.

FOR FURTHER INFORMATION CONTACT: The RTCA Secretariat, 1150 18th Street NW., Suite 910, Washington, DC 20036, or by telephone at (202) 330-0662 or (202) 833-9339, fax at (202) 833-9434, or Web site at http://www.rtca.org. In addition, Sophie Bousquet may be contacted directly at email: sbousquet@rtca.org.

SUPPLEMENTARY INFORMATION: Pursuant to section 10(a)(2) of the Federal Advisory Committee Act (Pub. L. 92-463, 5 U.S.C., App.), notice is hereby given for a meeting of Special Committee 227. The agenda will include the following:

September 15-19

• Welcome/Introductions/Administrative Remarks

• Agenda Overview

• Overview of Planned Work Program for the Week

• MOPS Change Proposals

• Status of MASPS Change 1, and Patent Licensing Issue

• Briefing Summary for SC-227/SC-214 Tiger Team

• Plenary Review—MOPS

• Planned Work Schedule (Note, schedule subject to change based upon progress/pace/issue)

• 9:00 a.m. to 4:30 p.m. each day

• Technical Requirements Breakout Sessions (as needed)

• Other Business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 18th 2014.
Mohannad Dawoud,
Management Analyst, NextGen, Business Operations Group, Federal Aviation Administration.

[FR Doc. 2014-17820 Filed 7-28-14; 8:45 am]

BILLING CODE 4910-13-P